DEPARTMENT OF TRANSPORTATION

Federal Aviation Administration

Notice of Availability of the Final Environmental Assessment (EA) and Finding of No Significant Impact/Record of Decision (FONSI/ROD) for the Aberdeen Regional Airport in Aberdeen, South Dakota

AGENCY: Federal Aviation Administration (FAA), DOT.

ACTION: Notice of Availability of a Final EA and FONSI/ROD.

SUMMARY: The FAA has issued the final EA final Environmental Assessment (EA) for the Aberdeen Regional Airport Updates and FONSI/ROD for the proposed decoupling of runways 13/31 and 17/35 and fill on airport wetlands and associated actions for Aberdeen Regional Airport. The EA was prepared in accordance with the National Environmental Policy Act (NEPA) of 1969, as amended, FAA Orders 1050.1E, “Environmental Impacts: Policies and Procedures” and FAA Order 5050.4B, “NEPA Implementing Instructions for Airport Actions”.

Point of Contact: Mr. Al Fenedick, Environmental Protection Specialist, FAA Regional Office, Suite 315, 2300 East Devon Avenue, Des Plaines, Illinois 60018, telephone number 847-294-7522.

SUPPLEMENTARY INFORMATION: The FAA is issuing a final EA for the Aberdeen Regional Airport Updates and FONSVROD that evaluated the potential environmental impacts associated with the proposed decoupling of Runways13/31 and 17/35 and fill on airport wetlands actions at Aberdeen Regional Airport located in Aberdeen, South Dakota. Based on the analysis contained in the final EA, the FAA has determined the selected alternative has no associated significant impacts to resources identified in accordance with FAA Order I050.IE, Environmental Impacts: Policies and Procedures and FAA Order 5054.4B, National Environmental Policy Act Implementing Instructions for Airport Actions. Therefore, no environmental impact statement will be prepared. The proposed decoupling of runways 13/31 and 17/35 and fill on airport wetlands project is needed to enhance the utility and safety of the Aberdeen Regional Airport for current and projected levels of aviation by the design aircraft family.

Four alternatives were studied for meeting the purpose and need. Three of the four alternatives were reviewed, analyzed, discarded due to the degree of environmental impacts and not meeting purpose and need. A detailed discussion is in the V. Alternatives Discarded Section of the FONSVROD. The selected alternative is one of four considered in the final EA. The selected alternative consists of addressing the identified needs: Incompatible land use, non-standard runway configuration, and hazardous wildlife habitat.

The selected alternative includes the:

(I.) Unconditional approval of the Airport Layout Plan (ALP) for the development listed in the EA and the decision document. (2.) Issue final airspace determinations for the development listed on the ALP. (3.) Eligibility for Federal grants-in-aid funds for eligible items. (4.) Approval of design and use of air traffic procedures needed to implement the proposed action. (5.) FAA Finding of “No Historic Properties Affected” for the Proposed Action. (6.) FAA findings of “may affect, not likely to adversely affect” for the Topeka shiner and Whooping Crane endangered species. (7.) FAA Finding of “No Impact” to floodplains. (8.) Wetland finding that there is no practicable alternatives to such construction and the proposed action includes all practicable measure to minimize harm to wetlands. (9.) Appropriate permits and mitigation will be needed before disbursing Federal funds. These documents will be available for public review during normal business hours at:

Federal Aviation Administration Bismarck ADO, 2301 University Drive, Bldg. 23B, Bismarck, North Dakota 58504.

Aberdeen Regional Airport, Manager's Office, Terminal Building, E Highway 12, Aberdeen, SD 57401.

Aberdeen City Hall, Engineering Department, 123 S. Lincoln St., Aberdeen, SD 57401.

Alexander Mitchell Library, 519 S. Kline St., Aberdeen, SD 57401.

Issued in Bismarck, North Dakota, October 17, 2012.
Andrew J. Peck,
Acting Manager, Manager, Bismarck Airport District Office FAA, Great Lakes Region.

[FR Doc. 2012-27670 Filed 11-13-12; 8:45 am]

BILLING CODE 4910-13-P